DEPARTMENT OF TRANSPORTATION

Federal Aviation Administration

14 CFR Part 39

[Docket No. FAA-2016-5040; Directorate Identifier 2013-NM-192-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A300 series airplanes; and Model A300 B4-600, B4-600R, and F4-600R series airplanes, and Model A300 C4-605R Variant F airplanes (collectively called Model A300-600 series airplanes). This proposed AD was prompted by the determination that certain existing inspection thresholds and intervals must be reduced. This proposed AD would require repetitive detailed inspections for corrosion, and related investigative and corrective actions if necessary. We are proposing this AD to detect and correct corrosion and cracking on the lower wing root joint, which could reduce the structural integrity of the airframe.

DATES: We must receive comments on this proposed AD by May 20, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-5040; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2016-5040; Directorate Identifier 2013-NM-192-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2013-0230, dated September 24, 2013 (referred to after this as the Mandatory Continuing Airworthiness Information, or “the MCAI”), to correct an unsafe condition for certain Airbus Model A300 and A300-600 series airplanes. The MCAI states:

Several cases of corrosion on the lower wing root joint, located in the wing bottom skin inboard and outboard of the external lower surface splice, have been reported by operators.

This condition, if not detected and corrected, could affect the structural integrity of the airframe.

Prompted by these findings, [Directorate General for Civil Aviation] (DGAC) France issued AD 1997-006-210 [which corresponds to FAA AD 98-21-34, Amendment 39-10842 (63 FR 55524, October 16, 1998)] to require repetitive inspections to detect the presence of corrosion and prevent crack propagation at the wing bottom skin, inboard and outboard of the Rib 1 external lower surface splice, between Frame (FR) 40 and FR47.

DGAC France * * * issued [an AD] to expand the choice of applicable Service Bulletins (SB). [The] DGAC France AD * * * was issued to allow A300-600 operators to use Revision 04 of Airbus SB A300-57-6047, converting flight cycles/“Fatigue rating” into flight cycles (FC)/flight hours (FH).

Subsequently, Airbus modification 10599 was developed to improve the corrosion behaviour of the area. This improvement allowed refining the inspection programme of the A300-600 aeroplane. For post-modification 10599 A300-600 aeroplanes, the application of the Maintenance Review Board Report (MRBR) inspection tasks was deemed sufficient for maintaining an adequate level of safety on these aeroplanes.

Consequently, EASA issued AD 2008-0208 [http://ad.easa.europa.eu/blob/easa_ad_2008_0208_R2.pdf/AD_2008-0208R2_1] (later revised), retaining the requirements of [a] DGAC France AD * * *, which was superseded, to require the use of Airbus SB A300-57-6047 Revision 05 for the inspections and to exclude post-modification 10599 A300-600 aeroplanes from the Applicability.

Since EASA AD 2008-0208R1 was issued, a fleet survey and updated Fatigue and Damage Tolerance analyses have been performed in order to substantiate the second A300-600 Extended Service Goal (ESG2) exercise. The results of these analyses determined that the threshold and interval must be reduced to allow timely detection of these cracks and the accomplishment of an applicable corrective action.

For the reasons described above, this [EASA] AD takes over and retains the requirements for A300 and A300-600 aeroplanes from EASA AD 2008-0208R1 (which has been revised, remaining applicable only to A310 aeroplanes) and requires accomplishment of the inspections within the new thresholds and intervals.

Required actions include repetitive detailed inspections for corrosion of the rib 1 external lower surface splice between FR40 and FR47, and repetitive fatigue inspections for cracking of the fasteners and on the surface of the forward and aft lower surface panels if necessary, and corrective actions (including application of new protective coating, removal of corrosion, and measurement of the reworked depth) if necessary. You may examine the MCAI in the AD docket on the Internet at http://www.regulations.gov by searching for and locating Docket No. FAA-2016-5040.

Related Rulemaking

AD 98-21-34, Amendment 39-10842 (63 FR 55524, October 16, 1998) (“AD 98-21-34”), applies to all Model A300, A300-600, and A310 series airplanes. This NPRM proposes to apply to only certain Model A300 and A300-600 series airplanes. The actions in this proposed AD are the same as those required by AD 98-21-34, but with certain revised compliance times. Accomplishment of the initial inspection specified in this proposed AD would terminate the repetitive inspection requirements of AD 98-21-34 for the affected airplanes. Certain modified Model A300-600 series airplanes would not be subject to the inspection requirements of this AD, and would no longer be subject to the repetitive inspection requirements of AD 98-21-34.

Related Service Information Under 1 CFR Part 51

We reviewed Service Bulletin A300-57-0204, Revision 01, dated April 2, 1999; and Airbus Service Bulletin A300-57-6047, Revision 06, dated October 17, 2011. This service information describes procedures for repetitive detailed inspections for corrosion of the rib 1 external lower surface splice between FR40 and FR47, repetitive fatigue inspections for cracking of the fasteners and on the surface of the forward and aft lower surface panels if necessary, and corrective actions (including application of new protective coating, removal of corrosion, and measurement of the reworked depth) if necessary. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 29 airplanes of U.S. registry. We also estimate that it would take about 8 work-hours per product to comply with the basic requirements of this proposed AD. The average labor rate is $85 per work-hour. Based on these figures, we estimate the cost of this proposed AD on U.S. operators to be $19,270, or $680 per product.

In addition, we estimate that any necessary follow-on actions would take about 8 work-hours, for a cost of $680 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-5040; Directorate Identifier 2013-NM-192-AD.

(a) Comments Due Date

We must receive comments by May 20, 2016.

(b) Affected ADs

This AD affects AD 98-21-34, Amendment 39-10842 (63 FR 55524, October 16, 1998) (“AD 98-21-34”).

(c) Applicability

This AD applies to all Airbus airplanes, certificated in any category, identified in paragraphs (c)(1) and (c)(2) of this AD.

(1) Model A300 B2-1A, B2-1C, B2K-3C, B2-203, B4-2C, B4-103, and B4-203 airplanes.

(2) Model A300 B4-601, B4-603, B4-620, B4-622, B4-605R, B4-622R, F4-605R, F4-622R, and C4-605R Variant F airplanes.

(d) Subject

Air Transport Association (ATA) of America Code 57, Wings.

(e) Reason

This AD was prompted by the determination that certain existing inspection thresholds and intervals must be reduced. We are issuing this AD to detect and correct corrosion and cracking on the lower wing root joint, which could reduce the structural integrity of the airframe.

(f) Compliance

Comply with this AD within the compliance times specified, unless already done.

(g) Airplanes Excluded From Requirements of This AD and AD 98-21-34

For airplanes identified in paragraph (c)(2) of this AD on which Airbus modification 10599 has been incorporated:

(1) No action is required by this AD; and

(2) As of the effective date of this AD, the actions specified in AD 98-21-34 are no longer required.

(h) Inspection and Corrective Actions

Within 60 months since the airplane's first flight, or within 60 months since accomplishment of the last inspection specified in Airbus Service Bulletin A300-57-0204 or A300-57-6047, whichever occurs later: Do a detailed inspection for corrosion of the rib 1 external lower surface splice between frame (FR)40 and FR47, in accordance with the Accomplishment Instructions of Airbus Service Bulletin A300-57-0204, Revision 01, dated April 2, 1999; or Airbus Service Bulletin A300-57-6047, Revision 06, dated October 17, 2011; as applicable. Repeat the inspection thereafter at intervals not to exceed 60 months. Accomplishment of the initial inspection required by this paragraph terminates the requirements of AD 98-21-34 for Model A300 and A300-600 series airplanes.

(i) Corrective Actions for Corrosion

If any corrosion is found during any inspection required by paragraph (h) of this AD, do the actions specified in paragraph (i)(1) and (i)(2) of this AD.

(1) Before further flight, do all applicable corrective actions in accordance with the Accomplishment Instructions of Airbus Service Bulletin A300-57-0204, Revision 01, dated April 2, 1999; or Airbus Service Bulletin A300-57-6047, Revision 06, dated October 17, 2011; as applicable; except as required by paragraph (j)(1) of this AD.

(2) At the applicable time specified in paragraph (i)(2)(i) or (i)(2)(ii) of this AD, except as required by paragraph (j)(2) of this AD: Do fatigue inspections to detect cracks of the fasteners and on the surface of the forward and aft lower surface panels, in accordance with the Accomplishment Instructions of Airbus Service Bulletin A300-57-0204, Revision 01, dated April 2, 1999; or Airbus Service Bulletin A300-57-6047, Revision 06, dated October 17, 2011; as applicable. Repeat the fatigue inspections thereafter at the applicable interval specified in paragraph B.(5) of Airbus Service Bulletin A300-57-0204, Revision 01, dated April 2, 1999; or Figure A-FBGAA, Sheet 01, of Airbus Service Bulletin A300-57-6047, Revision 06, dated October 17, 2011; as applicable; except as required by paragraph (j)(2) of this AD. If any cracking is found during any fatigue inspection required by this paragraph: Before further flight, repair using a method approved by the Manager, International Branch, ANM-116, Transport Airplane Directorate, FAA; or the European Aviation Safety Agency (EASA); or Airbus's EASA Design Organization Approval (DOA).

(i) For Model A300 series airplanes: Do the initial inspection at the applicable time specified in paragraph B.(5) of Airbus Service Bulletin A300-57-0204, Revision 01, dated April 2, 1999.

(ii) For Model A300-600 series airplanes: Do the initial inspection at the later of the times specified in paragraphs (i)(2)(ii)(A) and (i)(2)(ii)(B) of this AD.

(A) At the applicable time specified in Figure A-FBGAA, Sheet 01, of Airbus Service Bulletin A300-57-6047, Revision 06, dated October 17, 2011.

(B) Within 500 flight cycles or 1,050 flight hours after the effective date of this AD, whichever occurs first, without exceeding the time specified in paragraph (i)(2)(ii)(A) of this AD.

(j) Exceptions to Service Bulletin Specifications

(1) Where Airbus Service Bulletin A300-57-0204, Revision 01, dated April 2, 1999; or Airbus Service Bulletin A300-57-6047, Revision 06, dated October 17, 2011; specifies to contact Airbus for appropriate corrective action, this AD requires repair before further flight using a method approved by the Manager, International Branch, ANM-116, Transport Airplane Directorate, FAA; or EASA; or Airbus's EASA DOA.

(2) Where Airbus Service Bulletin A300-57-6047, Revision 06, dated October 17, 2011, specifies to contact Airbus for the appropriate threshold or repetitive interval, this AD requires that the compliance time be determined using a method approved by the Manager, International Branch, ANM-116, Transport Airplane Directorate, FAA; or EASA; or Airbus's EASA DOA.

(k) Calculating Average Flight Time (AFT)

The accumulated flight hours (counted from the takeoff up to the landing) divided by the number of accumulated flight cycles is the AFT per flight cycle.

(l) Credit for Previous Actions

This paragraph provides credit for the inspections and corrective actions required by paragraphs (h) and (i) of this AD, if those actions were performed before the effective date of this AD using the applicable service information specified in paragraphs (l)(1) through (l)(3) of this AD.

(1) Airbus Service Bulletin A300-57-6047, Revision 02, dated April 2, 1999, which is not incorporated by reference in this AD.

(2) Airbus Service Bulletin A300-57-6047, Revision 03, dated September 28, 1999, which is not incorporated by reference in this AD.

(3) Airbus Service Bulletin A300-57-6047, Revision 05, dated May 27, 2008, which is not incorporated by reference in this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(n) Related Information

(1) Refer to Mandatory Continuing Airworthiness Information (MCAI) EASA Airworthiness Directive 2013-0230, dated September 24, 2013, for related information. This MCAI may be found in the AD docket on the Internet at http://www.regulations.gov by searching for and locating Docket No. FAA-2016-5040.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on March 24, 2016.
Michael Kaszycki,
Acting Manager, Transport Airplane Directorate, Aircraft Certification Service.

[FR Doc. 2016-07575 Filed 4-4-16; 8:45 am]

BILLING CODE 4910-13-P